DEPARTMENT OF LABOR

Office of the Secretary

Submission for OMB Review; Comment Request

May 28, 2002.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation contact Darrin King on 202-693-4129 or E-Mail King-Darrin@dol.gov.

Comments should be sent to Office of Information and Regulatory Affairs, Attn: OMB Desk Officer for MSHA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration (MSHA).

Type of Review: Revision of a currently approved collection.

Title: Permissible Equipment Testing.

OMB Number: 1219-0066.

Affected Public: Business or other for-profit.

Number of Respondents: 592.

Requirement | Annual responses | Average response time (hours) | Annual burden hours
Part 15—Requirements for Approval of Explosives and Sheathed Explosives Units
New Acceptance Application | 1 | 5.03 | 5
Acceptance Extension Application | 1 | 5.03 | 5
Reporting Non-compliant Products | 4 | 0.25 | 1
Part 15 Subtotal | 6 |  | 11
Part 18—Electrical Motor Driven Mine Equipment and Accessories
Approval Applications | 84 | 14.43 | 1,212
Approval Extensions | 32 | 5.16 | 165
Certification Application | 1 | 14.43 | 14
Certification Extension | 1 | 5.16 | 5
Simplified Certifications | 1 | 7.00 | 7
Simplified Certifications Extensions | 1 | 2.50 | 3
RAMP Applications | 354 | 1.00 | 354
Part 18 Subtotal | 474 |  | 1,760
Part 19—Electric Cap Lamps
Approval Applications | 1 | 14.73 | 15
Approval Extension | 1 | 5.03 | 5
RAMP Applications | 1 | 1.48 | 1
Part 19 Subtotal | 3 |  | 21
Part 20—Electric Mine Lamps Other Than Standard Cap Lamps
Approval Applications | 3 | 14.73 | 44
Approval Extension | 1 | 5.03 | 5
RAMP Applications | 1 | 1.48 | 1
Part 20 Subtotal | 5 |  | 51
Part 22—Portable Methane Detector
Approval Applications | 1 | 14.73 | 15
Approval Extension | 1 | 5.03 | 5
RAMP Applications | 15 | 1.48 | 22
Part 22 Subtotal | 17 |  | 42
Part 23—Telephones and Signaling Devices
Approval Applications | 1 | 14.73 | 15
Approval Extension | 1 | 5.03 | 5
RAMP Applications | 3 | 1.48 | 4
Part 23 Subtotal | 5 |  | 24
Part 27—Methane Monitoring Systems
Certification Application | 1 | 14.73 | 15
Certification Extension | 1 | 5.03 | 5
RAMP Applications | 7 | 1.48 | 10
Part 27 Subtotal | 9 |  | 30
Part 28—Fuses for Use With Direct Current
Approval Applications | 1 | 14.73 | 15
Approval Extension | 1 | 5.03 | 5
Part 28 Subtotal | 2 |  | 20
Part 33—Dust Collectors for Use in Connection With Rock Drilling in Coal Mines
Approval Applications | 7 | 14.73 | 103
Approval Extension | 1 | 5.03 | 5
RAMP Applications | 3 | 1.48 | 4
Part 33 Subtotal | 11 |  | 113
Part 35—Fire Resistant Hydraulic Fluids
Approval Applications | 1 | 24.25 | 24
Approval Extension | 1 | 24.25 | 24
Part 35 Subtotal | 2 |  | 49
Part 36—Approval Requirements for Permissible Mobile Diesel-Powered Transportation Equipment
Approval Applications | 54 | 14.73 | 795
Approval Extension | 1 | 5.03 | 5
RAMP Applications | 3 | 1.48 | 4
Part 36 Subtotal | 58 |  | 805
Grand Total | 592 |  | 2,926

Total Annualized Capital/Startup Costs: $0.

Total Annual Costs (operating/maintaining systems or purchasing services): $446,744.

Description: MSHA is responsible for quality control of mine equipment and components, materials, instruments, and explosives used in the mining industry. The information collection requirements contained in 30 CFR parts 15, 18, 19, 20, 22, 23, 27, 28, 33, 35, and 36 contain procedures by which manufacturers may apply for, and have equipment approved as permissible for use in mines.

Ira Mills,
Departmental Clearance Officer.

[FR Doc. 02-13859 Filed 6-3-02; 8:45 am]

BILLING CODE 4510-43-P